DEPARTMENT OF AGRICULTURE

Forest Service

Cedar Gulch Mine, Rogue River-Siskiyou National Forest, Josephine County, OR

AGENCY: Forest Service, USDA.

ACTION: Notice of intent to prepare an environmental impact statement.

SUMMARY: The Forest Service will prepare a supplemental environmental impact statement (SEIS), to examine surface resource impacts connected with extracting gold from placer deposits within a 4.25-acre (approx.) area, in response to a mining claimant's proposed plan of operations. A Notice of Intent (NOI) was first published for this proposal under the name of Tracy Placer Mine, on April 21, 2006, Volume 71, No. 77, pages 20640-20642. A Notice of Availability was published for the DEIS on March 20, 2009, but due to unforeseen circumstances, the project was put on hold before a comment period was completed. The Forest Service is now preparing a SEIS to address changed conditions and minor changes to the alternatives since the DEIS was first made available. The name of the project is hereby changed to Cedar Gulch Mine to reflect the actual name of the placer claim, rather than the claim owner's name. This is in keeping with Forest Service policy. Proposed mining would occur along the south bank of Sucker Creek, about 11 miles southeast of Cave Junction, Oregon.

The purpose for preparing this SEIS is to forecast and disclose environmental consequences to surface resources, resulting from road use and mine operations, as well as to ascertain reasonable operational terms and conditions needed during development of locatable mineral resources of the United States (as authorized by the Mining Law of 1872, as amended).

DATES: The Draft SEIS is expected to be completed in October 2011, and the Final SEIS is expected January 2012.

ADDRESSES: A legal notice will be published in the newspaper of record at the time the DSEIS is released for comment. Addresses for comment will be included in the legal notice.

FOR FURTHER INFORMATION CONTACT: For technical information or questions, contact Karla Gallegos, Minerals Administrator, at (541) 471-6708.

SUPPLEMENTARY INFORMATION:

Scope of Environmental Analysis

The scope of this environmental analysis is limited to a review of proposed placer mine operations, including road access to the mine, with regard to potential environmental impacts to affected surface resources. The Forest Service, in implementing the Mining Law of 1872, does not have discretion to deny otherwise lawful locatable minerals mining (entry) where a reasonable plan of operations is proposed. However, Forest Service resource specialists working on this project do aim to fulfill all legally mandated environmental analysis and statement requirements, including thorough consideration of operating terms and conditions that decrease environmental effects. The application of operational terms and conditions are intended to direct mining operations and reclamation activities that minimize adverse effects on National Forest System surface resources (36 CFR 228.1).

Preliminary Issues

The interdisciplinary team assigned to this project has identified two significant issues. One of these issues, regarding potential for degradation of Sucker Creek water quality, validated the merit of preparing an SEIS. The two significant issues identified are:

(1) The degree of impact from proposed mine operations related to species listed as threatened under the Endangered Special Act, as amended (specifically coho salmon and the northern spotted owl) and

(2) The degree to which proposed mine operations might increase water temperature, turbidity, or both in Sucker Creek (especially with regard to the potential for a threatened violation of Clean Water Act requirements).

Preliminary Alternatives

Three alternatives will be analyzed in the forthcoming draft SEIS: 1), the no action alternative (as required by the National Environmental Policy Act, NEPA), 2), the miner's (claimant's) proposed action (plan of operations), and 3), an alternative mining plan incorporating reasonable terms and conditions that would minimize adverse environmental impacts on National Forest System surface resources.

Responsible Official

Roy Bergstrom, District Ranger, Wild Rivers Ranger District, is the Forest Service official responsible for decision-making.

Nature of Decision To Be Made

The responsible official will be accountable for disclosing important environmental consequences, identifying the environmentally preferable alternative, and selecting an alternative to implement. He will review the analysis contained in the Cedar Gulch Mine SEIS and make a decision regarding the terms and conditions that shall be required to operate, identifying where, when, and to what extent such terms and conditions are essential to protect surface resources.

Following completion of the draft SEIS, a comment period of no less than 45 calendar days will be allotted beginning on the day after the date EPA publishes the Notice of Availability in the Federal Register. At the end of this period, comments submitted to the Forest Service, together with names and addresses of those who responded, will be included in the public record for this proposal and as such will be available for public review. Forest Service officials will analyze, consider and respond to substantive comments submitted for the draft SEIS and will then publish substantive comments and accompanying responses in the final SEIS.

Dated: June 22, 2011.
Roy Bergstrom,
District Ranger.

[FR Doc. 2011-17414 Filed 7-11-11; 8:45 am]

BILLING CODE 3410-11-P